DEPARTMENT OF AGRICULTURE

Forest Service

Yavapai Resource Advisory Committee

AGENCY: Forest Service, Agriculture (USDA).

ACTION: Notice of meeting.

SUMMARY: The Yavapai Resource Advisory Committee (RAC) will hold a public meeting according to the details shown below. The committee is authorized under the Secure Rural Schools and Community Self-Determination Act (the Act) and operates in compliance with the Federal Advisory Committee Act (FACA). The purpose of the committee is to improve collaborative relationships and to provide advice and recommendations to the Forest Service concerning projects and funding consistent with Title II of the Act as well as make recommendations on recreation fee proposals for sites on the Prescott National Forest, consistent with the Federal Lands Recreation Enhancement Act.

DATES: An in-person and virtual meeting will be held on September 2, 2025, from 1 p.m. to 5 p.m. Pacific Daylight Time.

Written and Oral Comments: Anyone wishing to provide in-person or virtual oral comments must pre-register by 11:59 p.m. Pacific Daylight Time on August 15, 2025. Written public comments will be accepted by 11:59 p.m. Pacific Daylight Time on August 15, 2025. Comments submitted after this date will be provided by the Forest Service to the committee, but the committee may not have adequate time to consider those comments prior to the meeting.

All RAC meetings are subject to cancellation. For status of the meeting prior to attendance, please contact the person listed under FOR FURTHER INFORMATION CONTACT.

ADDRESSES: The meeting will be held in-person at 735 N. Highway 89, Chino Valley, Arizona, 86323 and virtually via telephone and/or video conference. Members of the public may participate in the meeting by joining virtually via videoconference at: Microsoft Teams Meeting ID: 289 741 535 520 0, Passcode: 8gL3W9A5; or dial in by phone +1 (202) 650-0123, passcode 144 003 532#. Committee information and meeting details can be found at the following website https://www.fs.usda.gov/r03/prescott/committees or by contacting the person listed under FOR FURTHER INFORMATION CONTACT.

Written Comments: Written comments must be sent by email to rebekah.blakley@usda.gov or via mail (postmarked) to Rebekah Blakley, Yavapai RAC Coordinator, 735 N Highway 89, Chino Valley, Arizona 86323. The Forest Service strongly prefers comments to be submitted electronically.

Oral Comments: Persons or organizations wishing to make oral comments must pre-register by 11:59 p.m. Pacific Daylight Time on August 15. 2025, and speakers can only register for one speaking slot. Oral comments must be sent by email to rebekah.blakley@usda.gov or via mail (postmarked) to Rebekah Blakley, Yavapai RAC Coordinator, 735 N Highway 89, Chino Valley, Arizona 86323.

FOR FURTHER INFORMATION CONTACT: Ashley Hom, Designated Federal Officer, by phone at 928-443-8213 or email to ashley.hom@usda.gov; or Rebekah Blakley, RAC Coordinator, at 928-777-2218 or rebekah.blakley@usda.gov.

SUPPLEMENTARY INFORMATION: The purpose of the meeting is to:

1. Elect a chair;

2. Hear from Title II project proponents and discuss project proposals; and

3. Make funding recommendations on Title II projects.

Please contact the person listed under FOR FURTHER INFORMATION CONTACT, by or before the deadline, for all questions related to the meeting. All comments, including names and addresses when provided, are placed in the record and are available for public inspection and copying. The public may inspect comments received upon request.

Meeting Accommodations: If you are a person requiring reasonable accommodation, please make a request in advance for sign language interpreting, assistive listening devices, or other reasonable accommodation. For access to proceedings, please contact the person listed in the section titled FOR FURTHER INFORMATION CONTACT. All reasonable accommodation requests are managed on a case-by-case basis.

Equal opportunity practices, in accordance with USDA policies, will be followed in all membership appointments to the Committee.

In accordance with Federal civil rights law and U.S. Department of Agriculture (USDA) civil rights regulations and policies, the USDA, its Agencies, offices, employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Dated: July 8, 2025.
Cikena Reid,
USDA Committee Management Officer.

[FR Doc. 2025-12938 Filed 7-10-25; 8:45 am]

BILLING CODE 3411-15-P